DEPARTMENT OF TRANSPORTATION

Office of the Secretary

Notice of Applications for Certificates of Public Convenience and Necessity and Foreign Air Carrier Permits Filed Under Subpart B (Formerly Subpart Q) During the Week Ending July 21, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25428.

Date Filed: July 17, 2006.

Due Date for Answers, Conforming Applications, or Motion to Modify Scope: August 7, 2006.

Description: Joint application of Gemini Air Cargo (“;Gemini”) and Amerijet International, Inc. (“Amerijet”) requesting approval of the de facto transfer of certain international certificate authority currently held by Gemini.

Docket Number: OST-2006-25275.

Date Filed: July 20, 2006.

Due Date for Answers, Conforming Applications, or Motion to Modify Scope: August 10, 2006.

Description: Application of American Airlines, Inc., for a Certificate of Public Convenience and Necessity to engage in scheduled foreign air transportation of persons, property, and mail between Dallas/Ft. Worth, Texas and Beijing, People's Republic of China. American also applies for the allocation of seven weekly U.S.-China combination frequencies of the DFW-Beijing route.

Docket Number: OST-1996-1389.

Date Filed: July 20, 2006.

Due Date for Answers, Conforming Applications, or Motion to Modify Scope: August 10, 2006.

Description: Application of United Air Lines, Inc., requesting renewal of its certificate of public convenience and necessity for Route 603, Segment 6, to engage in scheduled foreign air transportation of persons, property and mail between Washington, D.C. and Madrid, Barcelona, Malaga, and Palma de Mallorca, Spain, via the intermediate points the Azores and Lisbon, Portugal. United requests that the certificate be renewed indefinitely or at a minimum for a period of five years.

Docket Number: OST-2006-25454.

Date Filed: July 21, 2006.

Due Date for Answers, Conforming Applications, or Motion to Modify Scope: August 11, 2006.

Description: Application of Flying Boat, Inc. d.b.a. Chalk's International Airlines, d.b.a Chalk's Ocean Airways intent to resume commuter air service following a temporary cessation of operations caused by unique circumstances.

Renee V. Wright,
Program Manager, Docket Operations, Federal Register Liaison.

[FR Doc. E6-12437 Filed 8-1-06; 8:45 am]

BILLING CODE 4910-9X-P